ENVIRONMENTAL PROTECTION AGENCY

40 CFR Ch. I

[9267-5]

EPA-HQ-OA-2007-1172

EPA-HQ-OW-2010-0169

EPA-HQ-OW-2010-0728

Spring 2011 Regulatory Agenda

AGENCY: Environmental Protection Agency.

ACTION: Semiannual regulatory flexibility agenda and semiannual regulatory agenda.

SUMMARY: The Environmental Protection Agency (EPA) publishes the semiannual regulatory agenda online (the e-Agenda) at http://www.reginfo.gov and at http://www.regulations.gov to update the public about:

• Regulations and major policies currently under development,

• Reviews of existing regulations and major policies, and

• Rules and major policymakings completed or canceled since the last agenda.

Definitions

“E-Agenda,” “online regulatory agenda,” and “semiannual regulatory agenda” all refer to the same comprehensive collection of information that, until 2007, was published in the Federal Register but that now is only available through an online database.

“Regulatory Flexibility Agenda” refers to a document that contains information about regulations that may have a significant impact on a substantial number of small entities. We continue to publish it in the Federal Register because that is what is required by the Regulatory Flexibility Act of 1980.

“Monthly Action Initiation List” (AIL) refers to a list that EPA posts online each month of the regulations newly approved for development.

“Unified Regulatory Agenda” refers to the collection of all agencies' agendas with an introduction prepared by the Regulatory Information Service Center.

“Regulatory Agenda Preamble” refers to the document you are reading now. It appears as part of the Regulatory Flexibility Agenda and introduces both the Regulatory Flexibility Agenda and the e-Agenda.

“Rulemaking Gateway” refers to an online portal to EPA's priority rules with earlier and more frequently updated information about these priority actions. See section H for more information about the Rulemaking Gateway.

FOR FURTHER INFORMATION CONTACT: If you have questions or comments about a particular action, please get in touch with the agency contact listed in each agenda entry. If you have general questions about the semiannual regulatory agenda, please contact: Phil Schwartz (schwartz.philip@epa.gov; 202-564-6564) or Caryn Muellerleile (muellerleile.caryn@epa.gov; 202-564-2855).

To be placed on a mailing list for updated information on rules under development: If you would like to receive an e-mail with a link to new semiannual regulatory agendas as soon as they are published, please send an e-mail message with your name and address to: nscep@bps-lmit.com and put “E-Regulatory Agenda: Electronic Copy” in the subject line.

If you would like to regularly receive information about the rules newly approved for development, sign up for our monthly Action Initiation List by going to http://www.epa.gov/lawsregs/search/ail.html#notification and completing the steps listed there.

You can track progress on various aspects of EPA's priority rulemakings by signing up for RSS feeds from the Rulemaking Gateway at http://yosemite.epa.gov/opei/RuleGate.nsf/content/getalerts.html?opendocument.

SUPPLEMENTARY INFORMATION:

Table of Contents

A. Map of Regulatory Agenda Information

B. What Are EPA's Regulatory Goals and What Key Principles, Statutes, and Executive Orders Guide Our Rule and Policymaking Process?

C. How Can You Be Involved in EPA's Rule and Policymaking Process?

D. What Actions Are Included in the Regulatory Agenda?

E. How Is the E-Agenda Organized?

F. What Information Is in the Regulatory Flexibility Agenda and the E-Agenda?

G. How Can You Find Out About Rulemakings That Start Up After the Regulatory Agenda Is Signed?

H. What Tools for Finding More About EPA Rules and Policies Are Available at EPA.gov, Regulations.gov, and Reginfo.gov?

I. Reviews of Rules With Significant Impacts on a Substantial Number of Small Entities

J. What Other Special Attention Do We Give to the Impacts of Rules on Small Businesses, Small Governments, and Small Nonprofit Organizations?

K. Thank You for Collaborating With Us

A. Map of Regulatory Agenda Type Information

Type of information | Online locations | Federal Register location
Semiannual Regulatory Agenda | http://www.reginfo.gov/, http://www.regulations.gov, and http://www.epa.gov/lawsregs/search/regagenda.html | Not in FR
Semiannual Regulatory Flexibility Agenda | http://www.reginfo.gov/, www.regulations.gov, and http://www.epa.gov/lawsregs/search/regagenda.html | Part XIV of today's issue
Monthly Action Initiation List | http://www.regulations.gov/fdmspublic/component/main?main=DocketDetail&d=EPA-HQ-OA-2008-0265 and http://www.epa.gov/lawsregs/search/ail.html | Not in FR
Rulemaking Gateway | http://www.epa.gov/rulemaking/ | Not in FR

B. What Are EPA's Regulatory Priorities, and What Key Principles, Statutes, and Executive Orders Guide Our Rule and Policymaking Process?

Priorities

Our priorities for fiscal years 2011-2015 are laid out in our FY 2011-2015 Strategic Plan which includes five over-arching strategic goals and five cross-cutting fundamental strategies for how we approach our work. The five strategic goals are:

1. Taking Action on Climate Change and Improving Air Quality;

2. Protecting America's Waters;

3. Cleaning Up Communities and Advancing Sustainable Development;

4. Ensuring the Safety of Chemicals and Preventing Pollution;

5. Enforcing Environmental Laws.

And the five fundamental cross-cutting strategies are:

1. Expanding the Conversation on Environmentalism;

2. Working for Environmental Justice and Children's Health;

3. Advancing Science, Research, and Technological Innovation;

4. Strengthening State, Tribal, and International Partnerships;

5. Strengthening the EPA's Work Force and Capabilities.

To see the entire Strategic Plan; see the link at http://www.epa.gov/planandbudget/strategicplan.html.

Other Key Principles, Statutes, and Executive Orders Guiding Our Rule and Policymaking Process

EPA's strength has always been our ability to adapt to the constantly changing face of environmental protection as our economy and society evolve, and science teaches us more about how humans interact with and affect the natural world. Now, more than ever, EPA must be innovative and forward looking because the environmental challenges faced by Americans all across our country are unprecedented.

In addition to meeting its mission goals and priorities as described above, EPA has begun a new initiative under Executive Order (EO) 13563, Improving Regulation and Regulatory Review, to conduct periodic retrospective review of existing significant regulations. This review is intended to determine whether any such regulations should be modified, streamlined, expanded, or repealed, so as to make the Agency's regulatory program more effective or less burdensome in achieving the regulatory objectives. More information about this review is available at http://www.epa.gov/improvingregulations/.

Besides the fundamental environmental laws authorizing EPA actions such as the Clean Air Act and Clean Water Act, there are legal requirements that apply to the issuance of regulations that are generally contained in the Administrative Procedure Act, the Regulatory Flexibility Act as amended by the Small Business Regulatory Enforcement Fairness Act, the Unfunded Mandates Reform Act, the Paperwork Reduction Act, the National Technology Transfer and Advancement Act, and the Congressional Review Act. We also must meet a number of requirements contained in Executive Orders 12866 (Regulatory Planning and Review; 58 FR 51735; October 4, 1993; as supplemented by Executive Order 13563, Improving Regulation and Regulatory Review; 76 FR 3821; January 21, 2011), 12898 (Environmental Justice; 59 FR 7629; February 16, 1994), 13045 (Children's Health Protection; 62 FR 19885; April 23, 1997), 13132 (Federalism; 64 FR 43255; August 10, 1999), 13175 (Consultation and Coordination With Indian Tribal Governments; 65 FR 67249; November 9, 2000), 13211 (Actions Concerning Regulations That Significantly Affect Energy Supply, Distribution, or Use; 66 FR 28355; May 22, 2001).

C. How Can You Be Involved in EPA's Rule and Policymaking Process?

You can make your voice heard by getting in touch with the contact person provided in each agenda entry. We encourage you to participate as early in the process as possible. You may also participate by commenting on proposed rules that we publish in the Federal Register (FR).

Instructions on how to submit your comments are provided in each Notice of Proposed Rulemaking (NPRMs). To be most effective, comments should contain information and data that support your position, and you also should explain why EPA should incorporate your suggestion in the rule or nonregulatory action. You can be particularly helpful and persuasive if you provide examples to illustrate your concerns and offer specific alternatives.

EPA believes our actions will be more cost-effective and protective if the development process includes stakeholders working with us to help identify the most practical and effective solutions to problems. Democracy gives real power to individual citizens, but with that power comes responsibility. You are urged to become involved in EPA's rule and policymaking process. For more information about public involvement in EPA activities, please visit www.epa.gov/publicinvolvement.

D. What Actions Are Included in the E-Agenda and the Regulatory Flexibility Agenda?

EPA includes regulations and certain major policy documents in the e-Agenda. However, there is no legal significance to the omission of an item from the agenda, and EPA generally does not include the following categories of actions:

• Administrative actions such as delegations of authority, changes of address, or phone numbers;

• Under the Clean Air Act: Revisions to State Implementation Plans; Equivalent Methods for Ambient Air Quality Monitoring; Deletions from the New Source Performance Standards source categories list; Delegations of Authority to States; Area Designations for Air Quality Planning Purposes;

• Under the Federal Insecticide, Fungicide, and Rodenticide Act: Registration-related decisions, actions affecting the status of currently registered pesticides, and data call-ins;

• Under the Federal Food, Drug, and Cosmetic Act: Actions regarding pesticide tolerances and food additive regulations;

• Under the Resource Conservation and Recovery Act: Authorization of State solid waste management plans; hazardous waste delisting petitions;

• Under the Clean Water Act: State Water Quality Standards; deletions from the section 307(a) list of toxic pollutants; suspensions of toxic testing requirements under the National Pollutant Discharge Elimination System (NPDES); delegations of NPDES authority to States;

• Under the Safe Drinking Water Act: Actions on State underground injection control programs.

The Regulatory Flexibility Agenda normally includes:

• Actions likely to have a significant economic impact on a substantial number of small entities.

• Rules the Agency has identified for periodic review under section 610 of the Regulatory Flexibility Act. We are closing the 610 review for two rules in 2011.

E. How Is the E-Agenda Organized?

You can now choose how both the www.reginfo.gov and www.regulations.gov versions of the e-Agenda are organized. Current choices include: EPA subagency; stage of rulemaking, which is explained below; alphabetically by title; and by the Regulation Identifier Number (RIN), which is assigned sequentially when an action is added to the agenda.

Stages of rulemaking include:

1. Prerulemaking—Prerulemaking actions are generally intended to determine whether EPA should initiate rulemaking. Prerulemakings may include anything that influences or leads to rulemaking, such as Advance Notices of Proposed Rulemaking (ANPRMs), studies or analyses of the possible need for regulatory action, announcement of reviews of existing regulations required under section 610 of the Regulatory Flexibility Act, requests for public comment on the need for regulatory action, or important preregulatory policy proposals.

2. Proposed Rule—this section includes EPA rulemaking actions that are within a year of proposal (publication of Notices of Proposed Rulemakings (NPRMs)).

3. Final Rule—this section includes rules that will be issued as a final rule within a year.

4. Long-Term Actions—this section includes rulemakings for which the next scheduled regulatory action is after April 2012. We urge you to explore becoming involved even if an action is listed in the Long-Term category. By the time an action is listed in the Proposed Rules category, you may have missed the opportunity to participate in certain public meetings or policy dialogues.

5. Completed Actions—this section contains actions that have been promulgated and published in the Federal Register since publication of the Fall 2010 Agenda. It also includes actions that EPA is no longer considering. If an action appears in the completed section, it will not appear in future agendas unless the Agency decides to initiate the action again, in which case it will appear as a new entry. EPA also announces the results of the Regulatory Flexibility Act section 610 reviews in this section of the agenda.

F. What Information Is in the Regulatory Flexibility Agenda and the E-Agenda?

The Regulatory Flexibility Agenda entries include only the nine categories of information that are required by the Regulatory Flexibility Act of 1980 and by Federal Register Agenda printing requirements: Sequence Number, RIN, Title, Description, Statutory Authority, Section 610 Review, if applicable, Regulatory Flexibility Analysis Required, Schedule, and Contact Person. The E-Agenda has much more extensive information on these actions including such things as e-mail addresses and Internet URLs for additional information.

E-Agenda entries include:

Title: Titles for new entries (those that have not appeared in previous agendas) are preceded by a bullet (•). The notation “Section 610 Review” follows the title if we are reviewing the rule as part of our periodic review of existing rules under section 610 of the Regulatory Flexibility Act (RFA) (5 U.S.C. 610).

Priority: Entries are placed into one of five categories described below. OMB reviews all significant rules including both of the first two categories, “economically significant” and “other significant.”

Economically Significant: Under EO 12866, a rulemaking action that may have an annual effect on the economy of $100 million or more, or adversely affect in a material way the economy, a sector of the economy, productivity, competition, jobs, the environment, public health or safety, or State, local, or tribal governments or communities.

Other Significant: A rulemaking that is not economically significant but is considered significant for other reasons. This category includes rules that may:

1. Create a serious inconsistency or otherwise interfere with an action taken or planned by another agency;

2. Materially alter the budgetary impact of entitlements, grants, user fees, or loan programs, or the rights and obligations of recipients; or

3. Raise novel legal or policy issues arising out of legal mandates, the President's priorities, or the principles in Executive Order 12866.

Substantive, Nonsignificant: A rulemaking that has substantive impacts but is not Significant, Routine and Frequent, or Informational/Administrative/Other.

Routine and Frequent: A rulemaking that is a specific case of a recurring application of a regulatory program in the Code of Federal Regulations (e.g., certain State Implementation Plans, National Priority List updates, Significant New Use Rules, State Hazardous Waste Management Program actions, and Tolerance Exemptions). If an action that would normally be classified Routine and Frequent is reviewed by the Office of Management and Budget under EO 12866, then we would classify the action as either “Economically Significant” or “Other Significant.”

Informational/Administrative/Other: An action that is primarily informational or pertains to an action outside the scope of EO 12866.

Also, if a rule may be “Major” as defined in the Congressional Review Act (5 U.S.C. 801, et seq.) because it is likely to result in an annual effect on the economy of $100 million or more or meets other criteria specified in this law, appears under the “Priority” heading with the statement “Major under 5 U.S.C. 801.”

Legal Authority: The sections of the United States Code (U.S.C.), Public Law (PL), Executive Order (EO), or common name of the law that authorizes the regulatory action.

CFR Citation: The sections of the Code of Federal Regulations that would be affected by the action.

Legal Deadline: An indication of whether the rule is subject to a statutory or judicial deadline, the date of that deadline, and whether the deadline pertains to a Notice of Proposed Rulemaking, a Final Action, or some other action.

Abstract: A brief description of the problem the action will address.

Timetable: The dates (and citations) that documents for this action were published in the Federal Register and, where possible, a projected date for the next step. Projected publication dates frequently change during the course of developing an action. The projections in the agenda are best estimates as of the date we submit the agenda for publication. For some entries, the timetable indicates that the date of the next action is “to be determined.”

Regulatory Flexibility Analysis Required: Indicates whether EPA has prepared or anticipates that it will be preparing a regulatory flexibility analysis under section 603 or 604 of the RFA. Generally, such an analysis is required for proposed or final rules subject to the RFA that EPA believes may have a significant economic impact on a substantial number of small entities.

Small Entities Affected: Indicates whether the rule is anticipated to have any effect on small businesses, small governments, or small nonprofit organizations.

Government Levels Affected: Indicates whether the rule may have any effect on levels of government and, if so, whether the governments are State, local, tribal, or Federal.

Federalism Implications: Indicates whether the action is expected to have substantial direct effects on the States, on the relationship between the National Government and the States, or on the distribution of power and responsibilities among the various levels of government.

Unfunded Mandates: Section 202 of the Unfunded Mandates Reform Act generally requires an assessment of anticipated costs and benefits if a rule includes a mandate that may result in expenditures of more than $100 million in any one year by State, local, and tribal governments, in the aggregate, or by the private sector. If it is anticipated to exceed this $100 million threshold, we note it in this section.

Energy Impacts: Indicates whether the action is a significant energy action under EO 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and e-mail address, if available, of a person who is knowledgeable about the regulation.

Additional Information: Other information about the action including docket information.

URLs: For some actions, the Internet addresses are included for reading copies of rulemaking documents, submitting comments on proposals, and getting more information about the rulemaking and the program of which it is a part. (Note: To submit comments on proposals, you can go to the associated electronic docket, which is housed at www.regulations.gov. Once there, follow the online instructions to access the docket in question and submit comments. A docket identification (ID) number will assist in the search for materials. We include this number in the additional information section of many of the agenda entries that have already been proposed.)

RIN: The Regulation Identifier Number is used by OMB to identify and track rulemakings. The first four digits of the RIN stand for the EPA office with lead responsibility for developing the action.

G. How Can You Find Out About Rulemakings That Start Up After the Regulatory Agenda Is Signed?

EPA posts monthly information of new rulemakings that the Agency's senior managers have decided that we should develop. This list is also distributed via e-mail. You can see the current list, known as the Action Initiation List at http://www.epa.gov/lawsregs/search/ail.html where you will also find information about how to get an e-mail notification when a new list is posted.

H. What Tools for Mining Regulatory Agenda Data and for Finding More About EPA Rules and Policies Are Available at Reginfo.gov, EPA.gov, and Regulations.gov?

1. The http://www.reginfo.gov/Searchable Database

The Regulatory Information Service Center and Office of Information and Regulatory Affairs have a Federal regulatory dashboard that allows users to view the Regulatory Agenda database (http://www.reginfo.gov/public/do/eAgendaMain), which includes powerful search, display, and data transmission options. At that site you can:

1. See the preamble. At the URL listed above for the Unified Agenda and Regulatory Plan, find “Current Agenda Agency Preambles.” Environmental Protection Agency is listed alphabetically under “Other Executive Agencies.”

2. Get a complete list of EPA's entries in the current edition of the Agenda. Use the drop-down menu in the “Select Agency” box to find Environmental Protection Agency and “Submit.”

3. View the contents of all of EPA's entries in the current edition of the Agenda. Choose “Search” from the “Unified Agenda” selection in the toolbar at the top of the page. Within the “Search of Agenda/Regulatory Plan” screen, open “Advanced Search,” then “Continue.” Select “Environmental Protection Agency” and “Continue.” Select “Search,” then “View All RIN Data (Max 350).”

4. Get a listing of entries with specified characteristics. Follow the procedure described immediately above for viewing the contents of all entries, but on the screen entitled “Advanced Search—Select Additional Fields,” choose the characteristics you are seeking before “Search.” For example, if you wish to see a listing of all economically significant actions that may have a significant economic impact on a substantial number of small businesses, you would check “Economically Significant” under “Priority” and “Business” under “Regulatory Flexibility Analysis Required.”

5. Download the results of your searches in XML format.

2. Subject Matter EPA Web Sites

Some actions listed in the Agenda include a URL that provides additional information.

3. Public Dockets

When EPA publishes either an Advanced Notice of Proposed Rulemaking (ANPRM) or a NPRM in the Federal Register, the Agency typically establishes a docket to accumulate materials throughout the development process for that rulemaking. The docket serves as the repository for the collection of documents or information related to a particular Agency action or activity. EPA most commonly uses dockets for rulemaking actions, but dockets may also be used for Regulatory Flexibility Act section 610 reviews of rules with significant economic impacts on a substantial number of small entities and for various non-rulemaking activities, such as Federal Register documents seeking public comments on draft guidance, policy statements, information collection requests under the Paperwork Reduction Act, and other non-rule activities. Docket information should be in that action's agenda entry. All of EPA's public dockets can be located at www.regulations.gov.

4. EPA's Rulemaking Gateway

EPA's Rulemaking Gateway (http://www.epa.gov/rulemaking/) serves as a portal to EPA's priority rules, providing you with earlier and more frequently updated information about Agency regulations than is provided by the Regulatory Agenda.

The Rulemaking Gateway provides information as soon as work begins and provides updates on a monthly basis as new information becomes available. Time-sensitive information, such as notice of a public meeting, is updated on a daily basis. Not all of EPA's Regulatory Agenda entries appear on the Rulemaking Gateway; only priority rulemakings can be found on the Gateway.

I. Reviews of Rules With Significant Impacts on a Substantial Number of Small Entities

Section 610 of the RFA requires that an agency review, within 10 years of promulgation, each rule that has or will have a significant economic impact on a substantial number of small entities. EPA is closing the 610 review for two rules in 2011.

Rule reviewed | RIN | Docket ID No.
Effluent Guidelines and Standards for the Centralized Waste Treatment Industry (Section 610 Review) | 2040-AF18 | EPA-HQ-OW-2010-0169
National Primary Drinking Water Regulations; Arsenic and Clarifications to Compliance and New Source Contaminants Monitoring (Section 610 Review) | 2040-AF24 | EPA-HQ-OW-2010-0728

EPA has established official public dockets for these 610 Reviews under the docket identification (ID) numbers as indicated above. All documents in the dockets are listed on the www.regulations.gov Web site. Although listed in the index, some information is not publicly available; e.g., confidential business information (CBI) or other information whose disclosure is restricted by statute. Certain other material, such as copyrighted material, is not placed on the Internet and will be publicly available only in hard copy form. Publicly available docket materials are available either electronically through www.regulations.gov or in hard copy at the Water docket, EPA/DC, EPA West, Room 3334, 1301 Constitution Avenue, NW., Washington, DC 20460. The Public Reading Room is open from 8:30 a.m. to 4:30 p.m., Monday through Friday, excluding legal holidays. The telephone number for the Public Reading Room is (202) 566-1744.

J. What Other Special Attention Do We Give to the Impacts of Rules on Small Businesses, Small Governments, and Small Nonprofit Organizations?

For each of our rulemakings, we consider whether there will be any adverse impact on any small entity. EPA attempts to fit the regulatory requirements, to the extent feasible, to the scale of the businesses, organizations, and governmental jurisdictions subject to the regulation.

Under RFA/SBREFA (the Regulatory Flexibility Act as amended by the Small Business Regulatory Enforcement Fairness Act), the Agency must prepare a formal analysis of the potential negative impacts on small entities, convene a Small Business Advocacy Review Panel (proposed rule stage), and prepare a Small Entity Compliance Guide (final rule stage) unless the Agency certifies a rule will not have a significant economic impact on a substantial number of small entities. For more detailed information about the Agency's policy and practice with respect to implementing RFA/SBREFA, please visit the RFA/SBREFA Web site at http://www.epa.gov/sbrefa/.

For a list of the rules under development for which a Regulatory Flexibility Analysis will be required, go to http://www.regulations.gov/fdmspublic/component/main?main=UnifiedAgenda and click on Regulatory Flexibility Analysis—Required toward the bottom of the page.

K. Thank You for Collaborating With Us

Finally, we would like to thank those of you who choose to join with us in making progress on the complex issues involved in protecting human health and the environment. Collaborative efforts such as EPA's open rulemaking process are a valuable tool for addressing the problems we face, and the regulatory agenda is an important part of that process.

Dated: March 15, 2011.
Louise Wise,
Deputy Associate Administrator, Office of Policy.

10Clean Air Act—Proposed Rule Stage
Sequence No. | Title | Regulation Identifier No.
266 | National Emission Standards for Hazardous Air Pollutants From Coal- and Oil-fired Electric Utility Steam Generating Units and Standards of Performance for Electric Utility Steam Generating Units | 2060-AP52
267 | Revision of New Source Performance Standards for New Residential Wood Heaters | 2060-AP93

10Clean Air Act—Final Rule Stage
Sequence No. | Title | Regulation Identifier No.
268 | Implementation of the 1997 8-Hr Ozone NAAQS: Classification of Subpart 1 Areas and Revision to AntiBacksliding Provisions; Deletion of Obsolete 1-Hr Ozone Standard Provisions | 2060-AO96
269 | Supplemental Determinations for Renewable Fuels Produced Under the Final RFS2 Program From Palm Oil | 2060-AQ36

10Clean Air Act—Long-Term Actions
Sequence No. | Title | Regulation Identifier No.
270 | SAN No. 5367 NESHAP: Brick and Structural Clay Products and Clay Products | 2060-AP69
271 | Supplemental Determination for Renewable Fuels Produced Under the Final RFS2 Program From Pulpwood | 2060-AQ49
272 | Supplemental Determination for Renewable Fuels Produced Under the Final RFS2 Program From Sorghum | 2060-AQ64

10Clean Air Act—Completed Actions
Sequence No. | Title | Regulation Identifier No.
273 | National Emission Standards for Hazardous Air Pollutants for Area Sources: Industrial, Commercial, and Institutional Boilers | 2060-AM44
274 | National Emission Standards for Hazardous Air Pollutants for Major Sources: Industrial, Commercial & Institutional Boilers and Process Heaters | 2060-AQ25

Federal Insecticide, Fungicide, and Rodenticide Act (FIFRA)—Proposed Rule Stage
Sequence No. | Title | Regulation Identifier No.
275 | Pesticides; Certification of Pesticide Applicators | 2070-AJ20
276 | Pesticides; Agricultural Worker Protection Standard Revisions | 2070-AJ22
277 | Pesticides; Reconsideration of Exemptions for Insect Repellents | 2070-AJ45

Toxic Substances Control Act (TSCA)—Proposed Rule Stage
Sequence No. | Title | Regulation Identifier No.
278 | Lead; Renovation, Repair, and Painting Program for Public and Commercial Buildings | 2070-AJ56
279 | Formaldehyde Emissions From Pressed Wood Products | 2070-AJ44

Toxic Substance Contol Act (TSCA)—Final Rule Stage
Sequence No. | Title | Regulation Identifier No.
280 | Lead; Clearance and Clearance Testing Requirements for the Renovation, Repair, and Painting Program | 2070-AJ57

Comprehensive Environmental Response, Compensation and Liability Act—Proposed Rule Stage
Sequence No. | Title | Regulation Identifier No.
281 | Financial Responsibility Requirements Under CERCLA Section 108(b) for Classes of Facilities in the Hard Rock Mining Industry | 2050-AG61

70Clean Water Act—Proposed Rule Stage
Sequence No. | Title | Regulation Identifier No.
282 | Stormwater Regulations Revision to Address Discharges From Developed Sites | 2040-AF13

70Clean Water Act—Completed Actions
Sequence No. | Title | Regulation Identifier No.
283 | Effluent Guidelines and Standards for the Centralized Waste Treatment Industry (Completion of a Section 610 Review) | 2040-AF18

Safe Drinking Water Act (SDWA)—Prerule Stage
Sequence No. | Title | Regulation Identifier No.
284 | National Primary Drinking Water Regulations; Arsenic and Clarifications to Compliance and New Source Contaminants Monitoring (Section 610 Review) | 2040-AF24

Safe Drinking Water Act (SDWA)—Long-Term Actions
Sequence No. | Title | Regulation Identifier No.
285 | SAN No. 2281 National Primary Drinking Water Regulations: Radon | 2040-AA94

ENVIRONMENTAL PROTECTION AGENCY (EPA)

10Clean Air Act

Proposed Rule Stage

266. National Emission Standards for Hazardous Air Pollutants from Coal- and Oil-Fired Electric Utility Steam Generating Units and Standards of Performance for Electric Utility Steam Generating Units

Legal Authority: Clean Air Act sec 112(d); Clean Air Act sec 111(b)

Abstract: On May 18, 2005 (70 FR 28606), EPA published a final rule requiring reductions in emissions of mercury from Electric Utility Steam Generating Units. That rule was vacated on February 8, 2008, by the U.S. Court of Appeals for the District of Columbia Circuit. As a result of that vacatur, coal- and oil-fired electric utility steam generating units remain on the list of sources that must be regulated under section 112 of the Clean Air Act (CAA). The Agency will develop standards under CAA section 112(d) which will reduce hazardous air pollutant (HAP) emissions from this source category. Recent court decisions on other CAA section 112(d) rules will be considered in developing this regulation.

Under this action EPA will also propose amendments to the criteria pollutant new source performance standards (NSPS) for utilities. On February 27, 2006, EPA promulgated amendments to the utility NSPS and was subsequently sued by multiple state attorney general offices and environmental organizations. On September 2, 2009, EPA was granted a voluntary remand without vacatur of the 2006 amendments. Combining the two rules is a single action provides interested parties the opportunity to provide comments on the combined requirements of the 2 rules. It also avoids double counting either costs or environmental benefits of the separate rules.

Timetable:

Action | Date | FR Cite
NPRM | 05/03/11 | 76 FR 24976
NPRM Comment Period End | 07/05/11
Final Action | 12/00/11

Regulatory Flexibility Analysis Required: Yes.

Agency Contact: Bill Maxwell, Environmental Protection Agency, Air and Radiation, D243-01, RTP, NC 27711, Phone: 919 541-5430, Fax: 919 541-5450, E-mail: maxwell.bill@epamail.epa.gov.

Robert J Wayland, Environmental Protection Agency, Air and Radiation, C439-01, Research Triangle Park, NC 27711, Phone: 919 541-1045, E-mail: wayland.robertj@epamail.epa.gov.

RIN: 2060-AP52

267. Revision of New Source Performance Standards for New Residential Wood Heaters

Legal Authority: CAA sec 111

Abstract: EPA is revising the New Source Performance Standards (NSPS) for residential wood heaters under the Clean Air Act Section 111(b)(1)(B). This action is necessary because it updates the 1988 NSPS to reflect significant advancements in wood heater technologies and design, broaden the range of residential wood heating appliances covered by the regulation, and improve and streamline implementation procedures. This rule is expected to require manufacturers to redesign wood heaters to be cleaner and lower emitting. In general, the design changes will also make the heaters perform better and be more efficient. The revisions are also expected to retain the requirement for manufacturers to contract for testing of model lines by third-party independent laboratories, report the results to EPA, and label the models accordingly. This action does not apply to existing residential woodstoves, pellet stoves and other residential biomass heating units and may apply to other units.

Timetable:

Action | Date | FR Cite
NPRM | 02/00/12
Final Action | 06/00/13

Regulatory Flexibility Analysis Required: Yes.

Agency Contact: Gil Wood, Environmental Protection Agency, Air and Radiation, C404-05, RTP, NC 27711, Phone: 919 541-5272, Fax: 919 541-0242, E-mail: wood.gil@epa.gov.

David Cole, Environmental Protection Agency, Air and Radiation, C404-05, RTP, NC 27711, Phone: 919 541-5565, Fax: 919 541-0242, E-mail: cole.david@epa.gov.

RIN: 2060-AP93

ENVIRONMENTAL PROTECTION AGENCY (EPA)

10Clean Air Act

Final Rule Stage

268. Implementation of the 1997 8-Hr Ozone NAAQS: Classification of Subpart 1 Areas and Revision to Anti-backsliding Provisions; Deletion of Obsolete 1-Hr Ozone Standard Provisions.

Legal Authority: 42 U.S.C. 7410; 42 U.S.C. 7511 to 7511f; 42 U.S.C. 7601(a)(1)

Abstract: This rulemaking action would revise the rule for implementation of the 8-hour ozone national ambient air quality standard (NAAQS) to address partial vacatur by the U.S. Circuit Court of Appeals for the District of Columbia Circuit. The rulemaking would remove the portions of the regulatory text vacated by the Court, specifically: (1) the provision that places some 8-hour ozone nonattainment areas under title I, part D, subpart 1 of the CAA; (2) remove the exemption from anti-backsliding for the following three obligations under the now-revoked 1-hour ozone NAAQS:

—New source review;

—CAA Section 185 penalty fees for severe and extreme areas that fail to attain the 1-hour standard by their attainment date; and

—Contingency measures for failure to attain the 1-hour standard or make reasonable progress toward attainment.

The rule would also address: (1) The classification system for nonattainment areas that the implementation rule originally covered under Clean Air Act (CAA) title I, part D, subpart 1; and (2) contingency measures that apply as anti-backsliding measures under the now-revoked 1-hour standard. The rule would also remove an obsolete provision in the 1-hour ozone standard itself (40 CFR 50.9(c)).

Timetable:

Action | Date | FR Cite
NPRM | 01/16/09 | 74 FR 2936
NPRM Comment Period End | 02/17/09
Final Action | 06/00/11

Regulatory Flexibility Analysis Required: Yes.

Agency Contact: Lynn Dail, Environmental Protection Agency, Air and Radiation, C539-01, RTP, NC 27711, Phone: 919 541-2363, Fax: 919 541-5689, E-mail: dail.lynn@epamail.epa.gov.

Kimber Scavo, Environmental Protection Agency, Air and Radiation, 1200 Pennsylvania Ave, NW, RTP, NC 27711, Phone: 919 541-3354, Fax: 919 541-4028, E-mail: scavo.kimber@epamail.epa.gov.

RIN: 2060-AO96

269. Supplemental Determinations for Renewable Fuels Produced Under the Final RFS2 Program From Palm Oil

Legal Authority: Clean Air Act sec 211(o)

Abstract: As indicated in the final rule for the Renewable Fuels Standard Program, while the Agency issued lifecycle greenhouse gas (GHG) threshold determinations for the major fuel pathways projected to meet the bulk of the RFS volume mandates, assessments of other new fuel pathways such as biofuels produced from palm oil, could not be completed in time for the final rule. In the process of assessing these fuels, the Agency is issuing determinations through several supplemental notices to the final rule.

Timetable:

Action | Date | FR Cite
Direct Final Action | 10/00/11

Regulatory Flexibility Analysis Required: Yes.

Agency Contact: Paul Argyropoulos, Environmental Protection Agency, Air and Radiation, 6520J ARN, Washington, DC 20460, Phone: 202 564-1123, Fax: 202 564-1686, E-mail: argyropoulos.paul@epa.gov.

David Korotney, Environmental Protection Agency, Air and Radiation, AAFC, Ann Arbor, MI 48105, Phone: 734 214-4507, E-mail: korotney.david@epamail.epa.gov.

RIN: 2060-AQ36

ENVIRONMENTAL PROTECTION AGENCY (EPA)

10Clean Air Act

Long-Term Actions

270. Neshap: Brick and Structural Clay Products and Clay Products

Legal Authority: Not Yet Determined

Abstract: This rulemaking will establish emission limits for hazardous air pollutants (HF, HCl and metals) emitted from brick and clay ceramics kilns and glazing operations at clay ceramics production facilities. The brick and structural clay products industry primarily includes facilities that manufacture brick, clay, pipe, roof tile, extruded floor and wall tile, and other extruded dimensional clay products from clay, shale, or a combination of the two. The manufacturing of brick and structural clay products involves mining, raw material processing (crushing, grinding, and screening), mixing, forming, cutting or shaping, drying, and firing. Ceramics are defined as a class of inorganic, nonmetallic solids that are subject to high temperature in manufacture and/or use. The clay ceramics manufacturing source category includes facilities that manufacture traditional ceramics, which include ceramic tile, dinnerware, sanitaryware, pottery, and porcelain. The primary raw material used in the manufacture of these traditional ceramics is clay. The manufacturing of clay ceramics involves raw material processing (crushing, grinding, and screening), mixing, forming, shaping, drying, glazing, and firing.

Timetable:

Action | Date | FR Cite
NPRM | To Be Determined
Final Action | To Be Determined

Regulatory Flexibility Analysis Required: Yes.

Agency Contact: Jeff Telander, Environmental Protection Agency, Air and Radiation, D243-02, RTP, NC 27711, Phone: 919 541-5427, Fax: 919 541-5600, E-mail: telander.jeff@epamail.epa.gov.

Steve Fruh, Environmental Protection Agency, Air and Radiation, D243-02, RTP, NC 27711, Phone: 919 541-2837, Fax: 919 541-3207, E-mail: fruh.steve@epa.gov.

RIN: 2060-AP69

271. Supplemental Determination for Renewable Fuels Produced Under the Final RFS2 Program From Pulpwood

Legal Authority: Clean Air Act sec 211(o)

Abstract: As indicated in the final rule for the Renewable Fuels Standard Program, while the Agency issued lifecycle greenhouse gas (GHG) threshold determinations for the major fuel pathways projected to meet the bulk of the RFS volume mandates, assessments of other new fuel pathways such as renewable fuels from pulpwood could not be completed in time for the final rule. In the process of assessing these fuels, the Agency is issuing determinations through several supplemental notices to the final rule.

Timetable:

Action | Date | FR Cite
Direct Final Action | To Be Determined

Regulatory Flexibility Analysis Required: Yes.

Agency Contact: Paul Argyropoulos, Environmental Protection Agency, Air and Radiation, 6520J ARN, Washington, DC 20460, Phone: 202 564-1123, Fax: 202 564-1686, E-mail: argyropoulos.paul@epa.gov.

David Korotney, Environmental Protection Agency, Air and Radiation, AAFC, Ann Arbor, MI 48105, Phone: 734 214-4507, E-mail: korotney.david@epamail.epa.gov.

RIN: 2060-AQ49

272. • Supplemental Determination for Renewable Fuels Produced Under the Final RFS2 Program From Sorghum

Legal Authority: Clean Air Act sec 211(o)

Abstract: As indicated in the final rule for the Renewable Fuels Standard Program, while the Agency issued lifecycle greenhouse gas (GHG) threshold determinations for the major fuel pathways projected to meet the bulk of the RFS volume mandates, assessments of other new fuel pathways such as renewable fuels from sorghum could not be completed in time for the final rule. In the process of assessing these fuels, the Agency is issuing determinations through several supplemental notices to the final rule.

Timetable:

Action | Date | FR Cite
Final Action | To Be Determined

Regulatory Flexibility Analysis Required: Yes.

Agency Contact: Paul Argyropoulos, Environmental Protection Agency, Air and Radiation, 6520J ARN, Washington, DC 20460, Phone: 202 564-1123, Fax: 202 564-1686, E-mail: argyropoulos.paul@epa.gov.

David Korotney, Environmental Protection Agency, Air and Radiation, AAFC, Ann Arbor, MI 48105, Phone: 734 214-4507, E-mail: korotney.david@epamail.epa.gov.

RIN: 2060-AQ64

ENVIRONMENTAL PROTECTION AGENCY (EPA)

10Clean Air Act

Completed Actions

273. National Emission Standards for Hazardous Air Pollutants for Area Sources: Industrial, Commercial, and Institutional Boilers

Legal Authority: Clean Air Act sec 112

Abstract: The Clean Air Act (CAA) requires that EPA develop standards for toxic air pollutants, also known as hazardous air pollutants or air toxics for certain categories of sources. These pollutants are known or suspected to cause cancer and other serious health and environmental effects. This regulatory action will develop emission standards for boilers located at area sources. An area source facility emits or has the potential to emit less than 10 tons per year (tpy) of any single air toxic or less than 25 tpy of any combination of air toxics. Boilers burn coal and other substances such as oil or biomass (e.g., wood) to produce steam or hot water, which is then used for energy or heat. Industrial boilers are used in manufacturing, processing, mining, refining, or any other industry. Commercial and institutional boilers are used in commercial establishments, medical centers, educational facilities and municipal buildings. The majority of area source boilers covered by this proposed rule are located at commercial and institutional facilities and are generally owned or operated by small entities. EPA estimates that there are approximately 183,000 existing area source boilers at 91,000 facilities in the United States and that approximately 6,800 new area source boilers will be installed over the next 3 years. The rule will cover boilers located at area source facilities that burn coal, oil, biomass, or secondary “non-waste” materials. Natural gas-fired area source boilers are not part of the categories to be regulated. The rule will reduce emissions of a number of toxic air pollutants including mercury, metals, and organic air toxics. The standards for area sources must be technology-based. Standards for area sources can be based on either generally available control technology (GACT), or maximum achievable control technology (MACT). To determine GACT, we look at methods, practices and techniques that are commercially available and appropriate for use by the sources in the category. We consider the economic impacts on sources in the category and the technical capabilities of the firms to operate and maintain the emissions control systems. MACT can be based on the emissions reductions achievable through application of measures, processes, methods, systems, or techniques, but must at least meet minimum control levels as defined in the Clean Air Act. Economic impacts cannot be considered when determining those minimum control levels.

Timetable:

Action | Date | FR Cite
NPRM | 06/04/10 | 75 FR 31895
NPRM Comment Period End | 07/19/10
NPRM Extension of Comment Period | 06/09/10 | 75 FR 32682
NPRM Extension of Comment Period End | 08/03/10
Final Action | 03/21/11 | 76 FR 15554

Regulatory Flexibility Analysis Required: Yes.

Agency Contact: Mary Johnson, Environmental Protection Agency, Air and Radiation, D243-01, Research Triangle Park, NC 27711, Phone: 919 541-5025, E-mail: johnson.mary@epa.gov.

Robert J Wayland, Environmental Protection Agency, Air and Radiation, C439-01, Research Triangle Park, NC 27711, Phone: 919 541-1045, E-mail: wayland.robertj@epamail.epa.gov.

RIN: 2060-AM44

274. National Emission Standards for Hazardous Air Pollutants for Major Sources: Industrial, Commercial & Institutional Boilers and Process Heaters

Legal Authority: Clean Air Act section 112

Abstract: Section 112 of the Clean Air Act (CAA) outlines the statutory requirements for EPA's stationary source air toxics program. Section 112 mandates that EPA develop standards for hazardous air pollutants (HAP) for both major and area sources listed under section 112(c). This regulatory action will finalize emission standards for boilers and process heaters located at major sources. Section 112(d)(2) requires that emission standards for major sources be based on the maximum achievable control technology (MACT). Industrial boilers and institutional/commercial boilers are on the list of section 112(c)(6) source categories. In this rulemaking, EPA will finalize standards for these source categories.

Timetable:

Action | Date | FR Cite
NPRM | 06/04/10 | 75 FR 32006
NPRM Extension of Comment Period | 06/09/10 | 75 FR 32682
Final Action | 03/21/11 | 76 FR 15608

Regulatory Flexibility Analysis Required: Yes.

Agency Contact: Brian Shrager, Environmental Protection Agency, Air and Radiation, C439-01, Research Triangle Park, NC 27711, Phone: 919 541-7689, E-mail: shrager.brian@epa.gov.

Robert J Wayland, Environmental Protection Agency, Air and Radiation, C439-01, Research Triangle Park, NC 27711, Phone: 919 541-1045, E-mail: wayland.robertj@epamail.epa.gov.

RIN: 2060-AQ25

ENVIRONMENTAL PROTECTION AGENCY (EPA)

Federal Insecticide, Fungicide, and Rodenticide Act (FIFRA)

Proposed Rule Stage

275. Pesticides; Certification of Pesticide Applicators

Legal Authority: 7 U.S.C. 136; 7 U.S.C. 136i; 7 U.S.C. 136w

Abstract: EPA is proposing change to the federal regulations under the Federal Insecticide, Fungicide and Rodenticide Act (FIFRA) that guide the certified pesticide applicator program (40 CFR 171). Change is sought to strengthen the regulations to better protect pesticide applicators and the public and the environment from harm due to pesticide exposure. The possible need for change arose from EPA discussions with key stakeholders. EPA has been in extensive discussions with stakeholders since 1997 when the Certification and Training Assessment Group (CTAG) was established. CTAG is a forum used by regulatory and academic stakeholders to discuss the current state of, and the need for improvements in, the national certified pesticide applicator program. Throughout these extensive interactions with stakeholders, EPA has learned of the potential need for changes to the regulation.

Timetable:

Action | Date | FR Cite
NPRM | 05/00/12

Regulatory Flexibility Analysis Required: Yes.

Agency Contact: Kathy Davis, Environmental Protection Agency, Office of Chemical Safety and Pollution Prevention, 7506P, Washington, DC 20460, Phone: 703 308-7002, Fax: 703 308-2962, E-mail: davis.kathy@epa.gov.

Richard Pont, Environmental Protection Agency, Office of Chemical Safety and Pollution Prevention, 7506P, Washington, DC 20460, Phone: 703 305-6448, Fax: 703 308-2962, E-mail: pont.richard@epa.gov.

RIN: 2070-AJ20

276. Pesticides; Agricultural Worker Protection Standard Revisions

Legal Authority: 7 U.S.C. 136 and 136(w)

Abstract: EPA is developing a proposal under the Federal Insecticide, Fungicide and Rodenticide Act (FIFRA) to revise the federal regulations guiding agricultural worker protection (40 CFR 170). The changes under consideration are intended to improve agricultural workers' ability to protect themselves from potential exposure to pesticides and pesticide residues. In addition, EPA is proposing to make adjustments to improve and clarify current requirements and facilitate enforcement. Other changes sought are to bring hazard communication requirements more in line with OSHA requirements and make improvements to pesticide safety training, with improved worker safety the intended outcome. The potential need for change arose from EPA discussions with key stakeholders beginning in 1996 and continuing through 2004. EPA held nine public meetings throughout the country during which the public submitted written and verbal comments on issues of their concern. In 2000 through 2004, EPA held meetings where invited stakeholders identified their issues and concerns with the regulations.

Timetable:

Action | Date | FR Cite
NPRM | 05/00/12

Regulatory Flexibility Analysis Required: Yes.

Agency Contact: Kathy Davis, Environmental Protection Agency, Office of Chemical Safety and Pollution Prevention, 7506P, Washington, DC 20460, Phone: 703 308-7002, Fax: 703 308-2962, E-mail: davis.kathy@epa.gov.

Richard Pont, Environmental Protection Agency, Office of Chemical Safety and Pollution Prevention, 7506P, Washington, DC 20460, Phone: 703 305-6448, Fax: 703 308-2962, E-mail: pont.richard@epa.gov.

RIN: 2070-AJ22

277. Pesticides; Reconsideration of Exemptions for Insect Repellents

Legal Authority: 7 U.S.C. 136(a) and 136(w)

Abstract: EPA is developing rulemaking to modify the minimum risk pesticides exemption under 40 CFR 152.25(f) to exclude personally applied insect repellents from the exemption and require an abbreviated data set for such products. EPA is taking this action because these pesticides claim to control pests of significant public health importance.

Timetable:

Action | Date | FR Cite
NPRM | 01/00/12

Regulatory Flexibility Analysis Required: Yes.

Agency Contact: Kathryn Boyle, Environmental Protection Agency, Office of Chemical Safety and Pollution Prevention, 7506P, Washington, DC 20460, Phone: 703 305-6304, Fax: 703 305-5884, E-mail: boyle.kathryn@epa.gov.

Niva Kramek, Environmental Protection Agency, Office of Chemical Safety and Pollution Prevention, 7506P, Washington, DC 20460, Phone: 703 605-1193, Fax: 703 305-5884, E-mail: kramek.niva@epa.gov.

RIN: 2070-AJ45

ENVIRONMENTAL PROTECTION AGENCY (EPA)

Toxic Substances Control Act (TSCA)

Proposed Rule Stage

278. Lead; Renovation, Repair, and Painting Program for Public and Commercial Buildings

Legal Authority: 15 U.S.C. 2682(c)(3)

Abstract: Section 402(c)(3) of the Toxic Substances Control Act (TSCA) requires EPA to regulate renovation or remodeling activities in target housing (most pre-1978 housing), pre-1978 public buildings, and commercial buildings that create lead-based paint hazards. On April 22, 2008, EPA issued a final rule to address lead-based paint hazards created by these activities in target housing and child-occupied facilities built before 1978 (child-occupied facilities are a subset of public and commercial buildings or facilities where children under age 6 spend a great deal of time). The 2008 rule established requirements for training renovators, other renovation workers, and dust sampling technicians; for certifying renovators, dust sampling technicians, and renovation firms; for accrediting providers of renovation and dust sampling technician training; for renovation work practices; and for recordkeeping. This new rulemaking will address renovation or remodeling activities in the remaining buildings described in TSCA section 402(c)(3): public buildings built before 1978 and commercial buildings that are not child-occupied facilities. On May 6, 2010, EPA announced the commencement of proceedings to propose lead-safe work practices and other requirements for renovations on the exteriors of public and commercial buildings and to determine whether lead-based paint hazards are created by interior renovation, repair, and painting projects in public and commercial buildings. For those renovations in the interiors of public and commercial buildings that create lead-based paint hazards, EPA will propose regulations to address these hazards.

Timetable:

Action | Date | FR Cite
ANPRM | 05/06/10 | 75 FR 24848
NPRM; Exteriors | 12/00/11
Final Action | 07/00/13

Regulatory Flexibility Analysis Required: Yes.

Agency Contact: Hans Scheifele, Environmental Protection Agency, Office of Chemical Safety and Pollution Prevention, 7404T, Washington, DC 20460, Phone: 202 564-3122, E-mail: scheifele.hans@epa.gov.

Cindy Wheeler, Environmental Protection Agency, Office of Chemical Safety and Pollution Prevention, 7404T, Washington, DC 20460, Phone: 202 566-0484, E-mail: wheeler.cindy@epa.gov.

RIN: 2070-AJ56

279. Formaldehyde Emissions From Pressed Wood Products

Legal Authority: 15 U.S.C. 2697 (TSCA sec 601)

Abstract: In 2008, EPA initiated a proceeding under Toxics Substance and Control Act (TSCA) to investigate risks posed by formaldehyde emitted from pressed wood products. An advance notice of proposed rulemaking (ANPRM) sought to engage stakeholders to contribute to obtaining a better understanding of the available control technologies and approaches, industry practices, and the implementation of California's formaldehyde emission limits. Subsequently, EPA developed an industry survey to obtain more information on these ANPR topics and continued to assess the hazards of and exposures to formaldehyde emissions from pressed wood products. On July 7, 2010, the Formaldehyde Standards for Composite Wood Products Act was enacted. This law amends TSCA to establish specific formaldehyde emission limits for hardwood plywood, particleboard, and medium-density fiberboard, which limits are identical to the California emission limits for these products. The law further requires EPA to promulgate implementing regulations by January 1, 2013.

Timetable:

Action | Date | FR Cite
ANPRM | 12/03/08 | 73 FR 73620
ANPRM: Extension of Comment Period | 01/30/09 | 74 FR 5632
NPRM | 01/00/12

Regulatory Flexibility Analysis Required: Yes.

Agency Contact: Cindy Wheeler, Environmental Protection Agency, Office of Chemical Safety and Pollution Prevention, 7404T, Washington, DC 20460, Phone: 202 566-0484, E-mail: wheeler.cindy@epa.gov.

Lynn Vendinello, Environmental Protection Agency, Office of Chemical Safety and Pollution Prevention, 7404T, Washington, DC 20460, Phone: 202 566-0514, E-mail: vendinello.lynn@epa.gov.

RIN: 2070-AJ44

ENVIRONMENTAL PROTECTION AGENCY (EPA)

Toxic Substances Control Act (TSCA)

Final Rule Stage

280. Lead; Clearance and Clearance Testing Requirements for the Renovation, Repair, and Painting Program

Legal Authority: 15 U.S.C. 2601(c); 15 U.S.C. 2682(c)(3); 15 U.S.C. 2684; 15 U.S.C. 2686 and 2687

Abstract: On May 6, 2010, EPA proposed several revisions to the 2008 Lead Renovation, Repair, and Painting Program (RRP) rule that established accreditation, training, certification, and recordkeeping requirements as well as work practice standards for persons performing renovations for compensation in most pre-1978 housing and child-occupied facilities. Current requirements include training renovators, other renovation workers, and dust sampling technicians; for certifying renovators, dust sampling technicians, and renovation firms; for accrediting providers of renovation and dust sampling technician training; for renovation work practices; and for recordkeeping. EPA is particularly concerned about dust lead hazards generated by renovations because of the well documented toxicity of lead, especially to younger children. This proposal includes additional requirements designed to ensure that lead-based paint hazards generated by renovation work are adequately cleaned after renovation work is finished and before the work areas are re-occupied. Specifically, EPA proposed to require dust wipe testing after many renovations covered by the RRP rule. For a subset of jobs involving demolition or removal of plaster through destructive means or the disturbance of paint using machines designed to remove paint through high-speed operation, such as power sanders or abrasive blasters, this proposal would also require the renovation firm to demonstrate, through dust wipe testing, that dust-lead levels remaining in the work area are below regulatory levels.

Timetable:

Action | Date | FR Cite
NPRM | 05/06/10 | 75 FR 25038
NPRM Extension of Comment Period | 07/07/10 | 75 FR 38959
Final Action | 07/00/11

Regulatory Flexibility Analysis Required: Yes.

Agency Contact: Cindy Wheeler, Environmental Protection Agency, Office of Chemical Safety and Pollution Prevention, 7404T, Washington, DC 20460, Phone: 202 566-0484, E-mail: wheeler.cindy@epa.gov.

Michelle Price, Environmental Protection Agency, Office of Chemical Safety and Pollution Prevention, 7404T, Washington, DC 20460, Phone: 202 566-0744.

RIN: 2070-AJ57

ENVIRONMENTAL PROTECTION AGENCY (EPA)

Comprehensive Environmental Response, Compensation and Liability Act

Proposed Rule Stage

281. Financial Responsibility Requirements Under Cercla Section 108(B) for Classes of Facilities in the Hard Rock Mining Industry

Legal Authority: 42 U.S.C. 9601 et seq.; 42 U.S.C. 9608 (b)

Abstract: Section 108(b) of the Comprehensive Environmental Response, Compensation, and Liability Act (CERCLA) of 1980, as amended, establishes certain authorities concerning financial responsibility requirements. The Agency has identified classes of facilities within the Hard Rock mining industry as those for which financial responsibility requirements will be first developed. EPA intends to include requirements for financial responsibility, as well as notification and implementation.

Timetable:

Action | Date | FR Cite
Priority Notice | 07/28/09 | 74 FR 37213
NPRM | 02/00/12

Regulatory Flexibility Analysis Required: Yes.

Agency Contact: Ben Lesser, Environmental Protection Agency, Solid Waste and Emergency Response, 5302P, Washington, DC 20460, Phone: 703 308-0314, E-mail: lesser.ben@epa.gov.

David Hockey, Environmental Protection Agency, Solid Waste and Emergency Response, 5303P, Washington, DC 20460, Phone: 703 308-8846, E-mail: hockey.david@epa.gov.

RIN: 2050-AG61

ENVIRONMENTAL PROTECTION AGENCY (EPA)

70Clean Water Act

Proposed Rule Stage

282. Stormwater Regulations Revision to Address Discharges from Developed Sites

Legal Authority: 33 U.S.C. 1251 et seq.

Abstract: Stormwater discharge from developed areas is a major cause of degradation of surface waters. This is true for both conveyance of pollutants and the erosive power of increased stormwater flow rates and volumes. Current stormwater regulations were promulgated in 1990 and 1999. In 2006, the Office of Water asked the National Research Council (NRC) to review the stormwater program and recommend ways to strengthen it. The NRC Report, which was finalized in October 2008, found that the current stormwater program “ * * * is not likely to adequately control stormwater's contribution to waterbody impairment” and recommended that EPA take action to address the harmful effects of stormwater flow. This proposed action would establish requirements for, at minimum, managing stormwater discharges from newly developed and re-developed sites, to reduce the amount of pollutants in stormwater discharges entering receiving waters by reducing the discharge of excess stormwater. This action may also expand the scope of municipal separate storm sewer systems (MS4) required to be regulated under NPDES permits, to include rapidly developing areas and to cover some discharges that are not currently regulated. The Phase I and Phase II MS4 regulations might also be combined and amended, and may include provisions for better managing existing discharges.

Timetable:

Action | Date | FR Cite
NPRM | 09/00/11
Final Action | 11/00/12

Regulatory Flexibility Analysis Required: Yes.

Agency Contact: Connie Bosma, Environmental Protection Agency, Water, 4203M, Washington, DC 20460, Phone: 202 564-6773, Fax: 202 564-6392, E-mail: bosma.connie@epamail.epa.gov.

Janet Goodwin, Environmental Protection Agency, Water, 4303T, Washington, DC 20460, Phone: 202 566-1060, E-mail: goodwin.janet@epamail.epa.gov.

RIN: 2040-AF13

ENVIRONMENTAL PROTECTION AGENCY (EPA)

70Clean Water Act

Completed Actions

283. Effluent Guidelines and Standards for the Centralized Waste Treatment Industry (Completion of a Section 610 Review)

Legal Authority: 5 U.S.C. 610

Abstract: In December 2000, EPA promulgated effluent limitations for the Centralized Waste Treatment (CWT) Point Source Category at 40 CFR 437 (65 FR 81241, December 22, 2000). A CWT facility treats or recovers hazardous or non-hazardous industrial waste, wastewater, or used material from off-site. The regulation established wastewater discharge standards for three major types of wastes: metal-bearing, oily, and organic. EPA issued a Small Entity Compliance Guide, which provides easy-to-read descriptions of the regulations and other helpful information on how to comply such as a question and answer section.

Pursuant to Section 610 of the Regulatory Flexibility Act, on April 26, 2010, EPA initiated a review of the rule to determine if it should be continued without change, or should be rescinded or amended to minimize adverse economic impacts on small entities (75 FR 21882). As part of this review, EPA considered, and solicited comments on, the following factors: (1) The continued need for the rule; (2) the nature of complaints or comments received concerning the rule; (3) the complexity of the rule; (4) the extent to which the rule overlaps, duplicates, or conflicts with other Federal, State, or local government rules; and (5) the degree to which technology, economic conditions, or other factors have changed in the area affected by the rule. The comment period closed July 31, 2010. EPA received no comments, and the Agency has concluded that the rule needs no revisions at this time to minimize the impacts on small entities. The rule will remain in effect without modification.

The Docket ID number is EPA-HQ-OW-2010-0169. EPA summarized the results of the review in a report, which is available in the rulemaking docket referenced above. You can access that docket at http://www.regulations.gov.

Timetable:

Action | Date | FR Cite
Final Action | 12/22/00 | 65 FR 81241
Begin Review | 04/26/10 | 75 FR 21882
End Comment Period | 07/31/10 | 75 FR 21882
End Review | 04/25/11

Regulatory Flexibility Analysis Required: No.

Agency Contact: Erik Helm, Environmental Protection Agency, Water, 4303T, Washington, DC 20460, Phone: 202 566-1049, Fax: 202 566-1053, E-mail: helm.erik@epamail.epa.gov.

RIN: 2040-AF18

ENVIRONMENTAL PROTECTION AGENCY (EPA)

Safe Drinking Water Act (SDWA)

Prerule Stage

284. National Primary Drinking Water Regulations; Arsenic and Clarifications to Compliance and New Source Contaminants Monitoring (Section 610 Review)

Legal Authority: 5 U.S.C. 610

Abstract: On January 22, 2001, EPA revised the Maximum Contaminant Level (MCL) for arsenic to 0.010 mg/L (10.0 µg/L). This regulation applies to non-transient non-community water systems and to community water systems (66 FR 6976). While EPA has taken steps to evaluate and mitigate impacts on small entities as part of the promulgation of the Arsenic Rule, EPA reviewed the National Primary Drinking Water Rule (NPDWR) for arsenic pursuant to section 610 of the Regulatory Flexibility Act (5 U.S.C. 610). As part of this review, EPA considered and solicited comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. EPA is currently reviewing the public comments received in response to this review and is developing a response to comment document, which will be posted in the docket (#EPA-OW-2010-0728) upon completion of this review by fall 2011. The docket can be accessed at http://www.regulations.gov.

Timetable:

Action | Date | FR Cite
Final Rule | 01/22/01 | 66 FR 6976
Initiate 610 Review | 12/20/10 | 75 FR 79844
End Comment Period | 02/18/11
Completion of 610 Review | 10/00/11

Regulatory Flexibility Analysis Required: No.

Agency Contact: Stephanie Flaharty, Environmental Protection Agency, Water, 4601M, Washington, DC 20460, Phone: 202 564-5072, E-mail: flaharty.stephanie@epamail.epa.gov.

Wynne Miller, Environmental Protection Agency, Water, 4607M, Washington, DC 20460, Phone: 202 564-4887, Fax: 202 564-3760, E-mail: miller.wynne@epamail.epa.gov.

RIN: 2040-AF24

ENVIRONMENTAL PROTECTION AGENCY (EPA)

Safe Drinking Water Act (SDWA)

Long-Term Actions

285. National Primary Drinking Water Regulations: Radon

Legal Authority: 42 U.S.C. 300f, et seq.

Abstract: In 1999, EPA proposed regulations for radon which provide flexibility in how to manage the health risks from radon in drinking water. The proposal was based on the unique framework in the 1996 SDWA. The proposed regulation would provide for either a maximum contaminant level (MCL), or an alternative maximum contaminant level (AMCL) with a multimedia mitigation (MMM) program to address radon in indoor air. Under the proposal, public water systems in States that adopted qualifying MMM programs would be subject to the AMCL, while those in States that did not adopt such programs would be subject to the MCL.

Timetable:

Action | Date | FR Cite
ANPRM | 09/30/86 | 51 FR 34836
NPRM Original | 07/18/91 | 56 FR 33050
Notice99 | 02/26/99 | 64 FR 9560
NPRM | 11/02/99 | 64 FR 59246
Final Action | To Be Determined

Regulatory Flexibility Analysis Required: Yes.

Agency Contact: Rebecca Allen, Environmental Protection Agency, Water, 4607M, Washington, DC 20460, Phone: 202 564-4689, Fax: 202 564-3760, E-mail: allen.rebeccak@epamail.epa.gov.

Eric Burneson, Environmental Protection Agency, Water, 4607M, Washington, DC 20460, Phone: 202 564-5250, E-mail: burneson.eric@epamail.epa.gov.

RIN: 2040-AA94

[FR Doc. 2011-15496 Filed 7-6-11; 8:45 am]

BILLING CODE 6560-50-P